DEPARTMENT OF ENERGY

Notice of Floodplain Involvement for Proposed Deactivation and Demolition of the Zone 13 Sewage Treatment Plant at the Pantex Plant, Amarillo, TX

AGENCY: National Nuclear Security Administration (NNSA), Department of Energy (DOE).

ACTION: Notice of floodplain involvement.

SUMMARY: DOE proposes the demolition of a decommissioned sewage treatment plant which is currently in a floodplain, located on the Pantex Plant in Carson County, 17 miles northeast of Amarillo, Texas. In accordance with 10 CFR Part 1022, DOE will prepare a floodplain assessment and perform this proposed action in a manner so as to avoid or minimize potential adverse affects to or within the floodplain.

DATES: Comments on the proposed action are due to the address below no later than April 30, 2002.

ADDRESSES: Comments concerning this Notice should be addressed to: Floodplain Comments, Craig Snider, Environmental Engineer, Environmental Compliance, U.S. DOE/NNSA, Office of Amarillo Site Operations, P.O. Box 30020, Amarillo, Texas 79120-0020, (806) 477-5906, (806) 477-6972 (FAX).

Information on this proposed action, including a map of proposed activity locations, is also available.

FOR FURTHER INFORMATION CONTACT: Information on general DOE floodplain and wetland environmental review requirements is available from: Carol M. Borgstrom, Director, Office of NEPA Policy and Compliance, U.S. Department of Energy, 1000 Independence Avenue SW, Washington, DC 20585, (202) 586-4600 (800) 472-2756.

SUPPLEMENTARY INFORMATION: The Zone 13 Sewage Treatment Plant was constructed in 1942, and provided sewage treatment for both the Pantex Plant and the Amarillo Air Force Base. The facility was deactivated in 1946 and remained inactive until 1952. A chlorinator facility was added in 1952 and the treatment plant was returned to service. The treatment plant has been inactive since operations were discontinued in 1988. This project will include removing and disposing of abandoned equipment and piping; razing the buildings, roads, and associated structures; disposing of all waste; returning the land to grade, and re-establishing vegetation.

In accordance with DOE regulations for compliance with floodplain and wetlands environmental review requirements (10 CFR part 1022), DOE will prepare a floodplain assessment for this proposed action. After the floodplain assessment is complete, a Statement of Findings will published in the Federal Register. DOE will distribute copies of the Statement of Findings to Federal, State, and local governments, and others who submitted comments on the public notice.

Issued in Amarillo, Texas on March 28, 2002.
Vincent J. Zebrowski,
Acting Associate Director for Environmental & Site Engineering Programs.

[FR Doc. 02-9019 Filed 4-12-02; 8:45 am]

BILLING CODE 6450-01-P